DEPARTMENT OF HEALTH AND HUMAN SERVICES

Centers for Disease Control and Prevention

[60Day-10-09AX]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

National Survey of Long-Haul Truck Driver Injury and Health—New—National Institute for Occupational Safety and Health (NIOSH), Centers for Disease Control and Prevention (CDC).

Background and Brief Description

The mission of the National Institute for Occupational Safety and Health (NIOSH) is to promote safety and health at work for all people through research and prevention. The Occupational Safety and Health Act of 1970, Public Law 91-596 (Section 20[a][1]) authorizes NIOSH to conduct research to advance the health and safety of workers. In this capacity, NIOSH will conduct a national survey of long-haul truck drivers.

Truck drivers are at increased risk for numerous preventable diseases and health conditions; previous research suggests that truck drivers are at increased risk for lower back pain, heart disease, hypertension, stomach ulcers, and cancers of the bladder, lung, prostate, and stomach. Truck drivers also face extraordinary risk of on-the-job mortality. In 2007, the fatality rate for “driver/sales workers and truck drivers” was 28.2 per 100,000 workers, compared with a rate of 3.8 per 100,000 for all workers. Drivers of heavy and tractor-trailer trucks had more fatal work injuries than any other single occupation (822 deaths in 2007).

Truck drivers experience high rates of occupational injury and illness, but little is known about the prevalence of factors suspected to place them at increased risk. Information is needed on the role of occupation in driver health and on mechanisms of driver injuries. In evaluating the potential health effects of the 2005 hours-of-service ruling, the Federal Motor Carrier Safety Administration stated that due to a lack of evidence specific to trucking operations, information from different fields had to be adapted to a trucking environment. Research needs cited by stakeholders include detailed data on the prevalence of selected health conditions and risk factors among truck drivers, and data on working conditions, injury causes and outcomes, and health behaviors.

NIOSH has obtained input on plans for this survey through stakeholder meetings, a webinar, an Internet blog, and from comments received through NIOSH Docket 110 and during a focus group discussion with 7 truck drivers. The survey instrument has been reviewed by 6 subject matter experts and 9 cognitive interviews have been conducted using the survey instrument. Input received was used to guide development of the survey instrument and plans for survey implementation. Subjective data on understanding and phrasing of questions were collected during the focus group discussion and cognitive interviews.

The proposed national survey will be based upon a probability sample of truck stops. The survey will be conducted at locations along freight corridors in 5 geographic regions (Northeast, South, Great Lakes, Central, and West). The number of locations to be visited within each region will be related to the traffic load in that region. Eligible truck drivers stopping at selected truck stops will provide all survey data. The major objectives of the survey will be to: (1) Determine the prevalence of selected health conditions and risk factors; (2) characterize drivers' working conditions, occupational injuries, and health behaviors; (3) explore the associations among health status, individual risk factors, occupational injuries and occupational exposures related to work organization. The survey will eliminate significant gaps in occupational safety and health data for long-haul truck drivers. The results will assist regulatory agencies in focusing rulemaking, furnish industry and labor with safety and health information needed by their constituents, and stimulate future research and advocacy to benefit truck drivers.

The target population of drivers for this survey will be limited to drivers who: Have truck driving as their main job; drive a heavy truck (class 8 vehicle over 26,000 lbs. gross vehicle weight); sleep away from home at least one night per delivery run; and who have been a heavy truck driver 12 months or longer.

The study instrument will be interviewer-administered to approximately 2,400 eligible truck drivers at 50 truck stops. Individuals will first be asked a series of questions to determine if they are eligible to participate in the survey, followed by administration of the main interview. Respondents will not be asked to report names or any other identifying information.

The project supports the NIOSH surveillance function to advance the usefulness of surveillance information for the prevention of occupational injuries, illnesses, and hazards, and actively promoting the dissemination and use of NIOSH surveillance data and information. This survey will allow NIOSH to explore the inter-relationships among dimensions of health status, individual risk factors, occupational injuries, sleep disorders, and occupational exposures. It will also provide detailed demographic data on long-haul truck drivers, which have not been available previously, and could provide baseline data to inform future cohort and prospective studies.

NIOSH will use the information to calculate prevalence and customize safety and health interventions for long-haul truck drivers. Once the study is completed, results will be made available via various means. NIOSH expects to complete data collection no later than Fall of 2010. There is no cost to respondents other than their time.

Estimated Annualized Burden Hours
Type of respondent | Form name | Number of respondents | Number of responses per respondent | Avg. burden per response (in hours) | Total burden (in hours)
Truck Drivers | Screening Interview | 3000 | 1 | 3/60 | 150
| Main Interview | 2400 | 1 | 40/60 | 1600
Total |  |  |  |  | 1750

Dated: October 22, 2009.
Maryam I. Daneshvar,
Acting Reports Clearance Officer, Centers for Disease Control and Prevention.

[FR Doc. E9-25911 Filed 10-27-09; 8:45 am]

BILLING CODE 4163-18-P